DEPARTMENT OF HOMELAND SECURITY

U.S. Customs and Border Protection

[CBP Dec. 09-34]

Notice of Postponement of H-2A and H-2B Temporary Worker Visa Exit Program Pilot

AGENCY: U.S. Customs and Border Protection, Department of Homeland Security.

ACTION: General notice; postponement of commencement date.

SUMMARY: U.S. Customs and Border Protection (CBP) announces the postponement of the commencement date of the H-2A and H-2B Temporary Worker Visa Exit Program Pilot, originally set for August 1, 2009. The pilot program will require temporary workers within H-2A and H-2B nonimmigrant classifications that enter the United States at either the port of San Luis, Arizona or the port of Douglas, Arizona, to depart from one of those ports and to submit certain biographical and biometric information at one of the kiosks established for this purpose. A delay of the commencement date is necessary to ensure that the kiosks are fully operational.

DATES: The pilot program will commence December 8, 2009.

FOR FURTHER INFORMATION CONTACT: Ms. Erin M. Martin via e-mail at ERIN.Martin@dhs.gov.

SUPPLEMENTARY INFORMATION: On December 18, 2008, U.S. Customs and Border Protection (CBP) published a Notice in the Federal Register (73 FR 77049), announcing that CBP is establishing a new land-border exit system for H-2A temporary workers, starting on a pilot basis, at certain designated ports of entry.¹ This notice was published concurrently and is in accordance with a Final Rule published by the Department of Homeland Security (DHS) in the Federal Register (73 FR 76891). The Final Rule implements the pilot program by adding 8 CFR 215.9, which provides that an alien admitted on an H-2A visa at a port of entry participating in the Temporary Worker Visa Exit Program must also depart at the end of his or her authorized period of stay through a port of entry participating in the program and present designated biographic and/or biometric information upon departure. As required by 8 CFR 215.9, CBP published a Notice in the Federal Register (73 FR 77049) designating H-2A workers that enter the United States at either the port of San Luis, Arizona or the port of Douglas, Arizona, as participants in the Temporary Worker Visa Exit Program, who must depart from one of those ports and submit certain biographical and biometric information at one of the kiosks established for this purpose.

¹ The H-2A nonimmigrant classification applies to aliens seeking to perform agricultural labor or services of a temporary or seasonal nature in the United States. Immigration and Nationality Act (Act or INA) sec. 101(a)(15)(H)(ii)(a), 8 U.S.C. 1101(a)(15)(H)(ii)(a); see 8 CFR 214.1(a)(2) (designation for H-2A classification).

On December 19, 2008, CBP published a Notice of Expansion of Temporary Worker Visa Exit Program Pilot To Include H-2B Temporary Workers in the Federal Register (73 FR 77817), in line with the Final Rule published concurrently by DHS in the Federal Register (73 FR 78104).² The Final Rule expands the pilot program by amending 8 CFR 215.9, to provide that aliens admitted on an H-2B visa at a port of entry participating in the Temporary Worker Visa Exit Program must also depart at the end of his or her authorized period of stay through a port of entry participating in the program and present designated biographic and/or biometric information upon departure. As required by 8 CFR 215.9, as amended, CBP published a Notice in the Federal Register (73 FR 77817) to include H-2B workers in the Temporary Worker Visa Exit Program at the ports of San Luis, Arizona and Douglas, Arizona.

² The H-2B nonimmigrant classification applies to foreign workers coming to the U.S. temporarily to perform temporary, non-agricultural labor or services. Immigration and Nationality Act (Act or INA) sec. 101(a)(15)(H)(ii)(b), 8 U.S.C. 1101(a)(15)(H)(ii)(b); see 8 CFR 214.1(a)(2) (designation for H-2B classification).

Pursuant to the Notices in the Federal Register (73 FR 77049 and 73 FR 77817) published by CBP containing all the required elements referenced in 8 CFR 215.9, as amended, any alien that is admitted on an H-2A or H-2B visa into the United States at a designated port on or after August 1, 2009, is subject to the pilot program. However, in order to ensure that the facilities necessary to implement the pilot program are fully operational and meet the needs of the agency and the public, this notice postpones the start date of the pilot program. Accordingly, this notice postpones the start of the pilot program from August 1, 2009 to December 8, 2009.

Dated: August 20, 2009.
Jayson P. Ahern,
Acting Commissioner, U.S. Customs and Border Protection.

[FR Doc. E9-20424 Filed 8-24-09; 8:45 am]

BILLING CODE 9111-14-P